DEPARTMENT OF THE INTERIOR

Fish and Wildlife Service

Information Collection Submitted to the Office of Management and Budget (OMB) for Approval Under the Paperwork Reduction Act; NEPA Compliance Checklist

AGENCY: Fish and Wildlife Service, Interior.

ACTION: Notice; request for comments.

SUMMARY: The U.S. Fish and Wildlife Service (We) has submitted the collection of information listed below to OMB for approval under the provisions of the Paperwork Reduction Act. If you wish to obtain copies of the proposed information collection requirement, related forms, or explanatory material, contact the Service Information Collection Clearance Officer at the address listed below.

DATES: You must submit comments by April 7, 2004.

ADDRESSES: Submit your comments on this information collection renewal to the Desk Officer for the Department of the Interior at OMB-OIRA via facsimile or e-mail using the following fax number or e-mail address: (202) 395-6566 (fax); OIRA_DOCKET@omb. eop.gov (e-mail). Please provide a copy of your comments to the Fish and Wildlife Service's Information Collection Clearance Officer, 4401 N. Fairfax Dr., MS 222 ARLSQ, Arlington, VA 22203; (703) 358-2269 (fax); or anissa_craghead@fws.gov (e-mail).

FOR FURTHER INFORMATION CONTACT: To request a copy of the information collection request, explanatory information, or related forms, contact Anissa Craghead at (703) 358-2445, or electronically to anissa_craghead@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). We have submitted a request to OMB to renew its approval of the collection of information for the NEPA Compliance Checklist. We are requesting a 3-year term of approval for this information collection activity.

Federal agencies may not conduct or sponsor, and a person is not required to respond to, a collection of information unless it displays a currently valid OMB control number. The OMB control number for this collection of information is 1018-0110.

The Service administers several grant programs authorized by the Federal Aid in Wildlife Restoration Act (16 U.S.C. 669-669i), the Federal Aid in Sport Fish Restoration Act (16 U.S.C. 777-777k), the Anadromous Fish Conservation Act (16 U.S.C. 757a-757g), the Endangered Species Act (7 U.S.C. 136), the Clean Vessel Act (33 U.S.C. 1322), the Sportfishing and Boating Safety Act (16 U.S.C. 777g), North American Wetlands Conservation Act (16 U.S.C. 4401-4412), the Coastal Wetlands Planning, Protection and Restoration Act (16 U.S.C. 3951 et seq.), and through other Acts and authorities. The Service uses the information collected on the NEPA Compliance Checklist to determine whether a grantee complies with the National Environmental Policy Act (NEPA) (42 U.S.C. 4321-4347, 40 CRF 1500-1508). The State or other grantee uses the checklist as a guide to general NEPA requirements, and the checklist becomes an administrative record to meet their assurances requirements for receiving a grant.

Certain grant applicants must provide the information requested on the NEPA Compliance Checklist in order to qualify to receive benefits in the form of grants for purposes outlined in the applicable law. This form is designed to cause the minimum impact in the form of hourly burden on respondents and still obtain all necessary information. Only about 3 percent of the Service's applicants for either a new grant or for an amendment to an existing grant will meet the criteria and need to complete the NEPA Compliance Checklist. The checklist needs to be prepared when: (a) The proposed action is not completely covered by a categorical exclusion (e.g., the proposal cannot meet the qualifying criteria in the categorical exclusion, and “is not” will be checked on the Checklist); (b) The proposed action cannot be categorically excluded because an exception to the categorical exclusion applies (e.g., a “Yes” will be checked on the Checklist); (c) Environmental conditions at or in the vicinity of the site have materially changed, affecting the consideration of alternatives and impacts (applicable to amendments and renewals); (d) There is a need to document a normally categorically excluded action that may be controversial; or (e) Additional internal review and/or documentation of the NEPA administrative record are desirable.

We are proposing several changes to the NEPA Compliance Checklist to make the checklist easier to understand and easier for the respondent to complete and to update the checklist based on revisions to our Departmental Manual.

Title: NEPA Compliance Checklist.

OMB Control Number: 1018-0110.

Form Number: 3-2185.

Frequency of Collection: Annually.

Description of Respondents: The 50 U.S. States, the Commonwealth of Puerto Rico, the District of Columbia, the Commonwealth of the Northern Mariana Islands, Guam, the Virgin Islands, and American Samoa.

Total Annual Burden Hours

Form name | Completion time per form | Annual number of responses | Annual hour burden
Checklist | ½ hour | 160 | 80

We again invite comments on: (1) Whether the collection of information is necessary for the proper performance of the functions of the agency, including whether the information will have practical utility; (2) the accuracy of our estimate of the burden of the collection of information; (3) ways to enhance the quality, utility, and clarity of the information to be collected; and (4) ways to minimize the burden of collection of information on respondents, including through the use of appropriate automated, electronic, mechanical, or other technological collection techniques or other forms of information technology.

Dated: March 2, 2004.
Anissa Craghead,
Information Collection Officer.

[FR Doc. 04-5142 Filed 3-5-04; 8:45 am]

BILLING CODE 4310-55-P